SMALL BUSINESS ADMINISTRATION

[Docket No. SBA-2017-0005]

13 CFR Chapter I

Reducing Unnecessary Regulatory Burden

AGENCY: U.S. Small Business Administration.

ACTION: Request for information; extension of comment period.

SUMMARY: On August 15, 2017, the Small Business Administration (SBA or Agency) published in the Federal Register a request for information seeking input from the public on identifying which of the Agency's regulations should be repealed, replaced or modified because they are obsolete, unnecessary, ineffective, or burdensome. That request established a 60-day comment period closing on October 16, 2017. SBA is extending the public comment period for 30 days, until November 15, 2017.

DATES: The comment period for the request for information published on August 15, 2017 (82 FR 38617) is extended. Comments are requested on or before November 15, 2017.

ADDRESSES: You may submit comments, identified by Docket Number SBA-2017-0005, using any of the following methods:

Federal eRulemaking Portal: http://www.regulations.gov. Identify comments by “Docket Number SBA-2017-0005, Reducing Regulatory Burden RFI,” and follow the instructions for submitting comments.

Mail: Holly Turner, Regulatory Reform Officer, U.S. Small Business Administration, 409 Third Street SW., Washington, DC 20416.

SBA will post all comments on http://www.regulations.gov. If you wish to submit confidential business information (CBI) as defined in the User Notice at http://www.regulations.gov, please submit the information to Holly Turner, 409 Third Street SW., Washington, DC 20416. Highlight the information that you consider to be CBI, and explain why you believe this information should be held confidential. SBA will review the information and make the final determination as to whether to publish the information.

FOR FURTHER INFORMATION CONTACT: Holly Turner, (202) 205-6335, 409 Third Street SW., Washington, DC 20416; email address: IGA@sba.gov.

SUPPLEMENTARY INFORMATION: On August 15, 2017, in accordance with Executive Order 13777, “Enforcing the Regulatory Reform Agenda,” SBA published a request for information seeking input from the public on identifying which of the Agency's regulations should be repealed, replaced or modified because they are obsolete, unnecessary, ineffective, or burdensome (82 FR 38617). That request established a 60-day comment period, closing on October 16, 2017. To ensure that all interested parties are provided ample time and opportunity to submit comments, SBA is extending the public comment period for an additional 30 days. Comments must be submitted to SBA no later than November 15, 2017.

Authority: 15 U.S.C. 634(b)(6); E.O. 13771; E.O. 13777.

Dated: October 6, 2017.
Holly Turner,
Regulatory Reform Officer.

[FR Doc. 2017-22130 Filed 10-12-17; 8:45 am]

BILLING CODE 8025-01-P